DEPARTMENT OF THE INTERIOR

National Park Service

[NPS-WASO-NRNHL-DTS#-40489; PPWOCRADI0, PCU00RP14.R50000]

National Register of Historic Places; Notification of Pending Nominations and Related Actions

AGENCY: National Park Service, Interior.

ACTION: Notice.

SUMMARY: The National Park Service is soliciting electronic comments on the significance of properties nominated before June 21, 2025, for listing or related actions in the National Register of Historic Places.

DATES: Comments should be submitted electronically by August 12, 2025.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 2013, Washington, DC 20240.

FOR FURTHER INFORMATION CONTACT: Sherry A. Frear, Chief, National Register of Historic Places/National Historic Landmarks Program, 1849 C Street NW, MS 2013, Washington, DC 20240, sherry_frear@nps.gov, 202-913-3763.

SUPPLEMENTARY INFORMATION: The properties listed in this notice are being considered for listing or related actions in the National Register of Historic Places. Nominations for their consideration were received by the National Park Service before June 21, 2025. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

Key: State, County, Property Name, Multiple Name (if applicable), Address/Boundary, City, Vicinity, Reference Number.

MINNESOTA

Dakota County

Luther Memorial Church, 315 15th Avenue North, South St. Paul, SG100012054

Kanabec County

Coin School, 805 Forest Avenue West, Mora, SG100012053

MISSISSIPPI

Tallahatchie County

Charleston Downtown Historic District, George P. Cossar Boulevard, Court Square, Main Street, Market Street North and Market Street South, Charleston, SG100012050

MISSOURI

Jefferson County

St. Joseph's Hill Infirmary, 265 St. Joseph Hill Road, Pacific vicinity, SG100012047

NEW HAMPSHIRE

Grafton County

Colburn Park Historic District (Boundary Increase), Part of Campbell Street, Court Street, Part of Hanover Street/Lebanon Mall, Part of Mascoma Street, Part of School Street, West Park Street, Lebanon, BC100012049

NEW YORK

Cayuga County

Peleg and Eunice White House, 2297 Dixon Road, Ledyard, SG100012063

Erie County

Manze Block, 461-471 Niagara Street, Buffalo, SG100012062

Fulton County

Bleecker District No. 3 School, 112 Lily Lake Road, Bleecker, SG100012061

New York County

St. Peter's Church, 619 Lexington Avenue, New York, SG100012060

NORTH DAKOTA

Burleigh County

Byrne, Patrick E., House, 120 W Ave. A, Bismarck, SG100012055

WISCONSIN

Dane County

Mackenzie, Alan and Janet, House, Address Restricted, Madison, SG100012052

WYOMING

Albany County

Laramie West Side Historic District, West of downtown Laramie and the Union Pacific Railroad tracks and east of the Laramie River, Laramie, SG100012058

Sublette County

Emerson School (Educational Facilities in Wyoming, 1850-1960 MPS), 342 East Fork Big Sandy Road, Boulder vicinity, MP100012057

Additional documentation has been received for the following resource(s):

NEW HAMPSHIRE

Grafton County

Colburn Park Historic District (Additional Documentation), N, S, E, and W Park Sts., 3 Campbell St., 1 School St., 1 Bank St., and 9-10 Lebanon Mall, Lebanon, AD86000782

NEW YORK

New York County

Louis N. Jaffee Art Theater Building (Additional Documentation), 189 Second Ave., New York, AD85002427

Nomination(s) submitted by Federal Preservation Officers:

The State Historic Preservation Officer reviewed the following nomination(s) and responded to the Federal Preservation Officer within 45 days of receipt of the nomination(s) and supports listing the properties in the National Register of Historic Places.

MONTANA

Park County

Herbert Summer Cabin, West Boulder tract, Big Timber vicinity, SG100012056

Authority: Section 60.13 of 36 CFR part 60.

Sherry A. Frear,
Chief, National Register of Historic Places/National Historic Landmarks Program.

[FR Doc. 2025-14143 Filed 7-25-25; 8:45 am]

BILLING CODE 4312-52-P